DEPARTMENT OF HOUSING AND URBAN DEVELOPMENT

[Docket No. FR-4557-N-21]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information lines at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property management, Program Support Center, HHS, room 5B-41, 5600 Fishers Lane, Rockville, ND 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Ms. Shirley Middleswarth, Army Corps of Engineers, Management & Disposal Division, Pulaski Bldg., Room 4224, 20 Massachusetts Avenue, NW, Washington, DC 20314-1000; (202) 761-0515; GSA: Mr. Brian K. Polly, Assistant Commissioner, General Services Administration, Office of Property Disposal, 18th and F Streets, NW, Washington, DC 20405; (202) 501-0052; Energy: Mr. Tom Knox, Department of Energy, Office of Contract & Resource Management, MA-52, Washington, DC 20585; (202) 586-8715; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: May 18, 2000.
Fred Karnas, Jr.,
Deputy Assistant Secretary for Special needs Assistance Programs.

Title V, Federal Surplus Property Program; Federal Register Report for 5/26/00

Suitable/Available Properties

Buildings (by State)

California

Bldg. 371

Naval Warfare Systems Center

San Diego Co: CA 92152-

Landholding Agency: Navy

Property Number: 77200020080

Status: Unutilized

Comment: 29,800 sq. ft., needs rehab, presence of asbestos/lead paint, off-site use only

Bldg. 402

Naval Warfare Systems Center

San Diego Co: CA 92152-

Landholding Agency: Navy

Property Number: 77200020081

Status: Unutilized

Comment: presence of lead paint, most recent use—storage, off-site use only

Bldg. 417

Naval Warfare Systems Center

San Diego Co: CA 92152-

Landholding Agency: Navy

Property Number: 77200020082

Status: Unutilized

Comment: 100 TR, needs rehab, presence of asbestos/lead paint, off-site use only

Bldg. 418

Naval Warfare Systems Center

San Diego Co: CA 92152-

Landholding Agency: Navy

Property Number: 77200020083

Status: Unutilized

Comment: 288 sq. ft., presence of lead paint, most recent use—storage, off-site use only

Bldg. 426

Naval Warfare Systems Center

San Diego Co: CA 92152-

Landholding Agency: Navy

Property Number: 77200020084

Status: Unutilized

Comment: presence of asbestos/lead paint, off-site use only

Bldg. 434

Naval Warfare Systems Center

San Diego Co: CA 92152-

Landholding Agency: Navy

Property Number: 77200020085

Status: Unutilized

Comment: 11,440 sq. ft., needs rehab, presence of asbestos/lead paint, off-site use only

Bldg. 210

Naval Warfare Assessment Station

Corona Co: CA 91718-5000

Landholding Agency: Navy

Property Number: 77200020086

Status: Unutilized

Comment: 17,708 sq. ft., needs rehab, presence of asbestos/lead paint, most recent use—police station, off-site use only

Bldg. 541

Naval Warfare Assessment Station

Corona Co: CA 91718-5000

Landholding Agency: Navy

Property Number: 77200020087

Status: Unutilized

Comment: 3,857 sq. ft., needs rehab, presence of asbestos/lead paint, most recent use—lab, off-site use only

Bldg. 804

Naval Warfare Assessment Station

Corona Co: CA 91718-5000

Landholding Agency: Navy

Property Number: 77200020088

Status: Unutilized

Comment: 3,119 sq. ft., needs rehab, presence of asbestos/lead paint, most recent use—admin., off-site use only

Bldg. 805

Naval Warfare Assessment Station

Corona Co: CA 91718-5000

Landholding Agency: Navy

Property Number: 77200020089

Status: Unutilized

Comment: 3,632 sq. ft., needs rehab, presence of asbestos/lead paint, most recent use—storage, off-site use only

Bldg. 806

Naval Warfare Assessment Station

Corona Co: CA 91718-5000

Landholding Agency: Navy

Property Number: 77200020090

Status: Unutilized

Comment: 3,110 sq. ft., needs rehab, presence of asbestos/lead paint, most recent use—office, off-site use only

Bldg. 807

Naval Warfare Assessment Station

Corona Co: CA 91718-5000

Landholding Agency: Navy

Property Number: 77200020091

Status: Unutilized

Comment: 3,110 sq. ft., needs rehab, presence of asbestos/lead paint, most recent use—office, off-site use only

North Carolina

Goldsboro Federal Bldg.

134 North John Street

Goldsboro Co: Wayne NC 27530

Landholding Agency: GSA

Property Number: 54200020016

Status: Excess

Comment: 24,492 sq. ft., presence of asbestos/lead paint

GSA Number: 4-G-NC-736

North Dakota

Office Bldg.

Lake Oahe Project

3rd & Main

Ft. Yates Co; Sioux ND 58538-

Landholding Agency: COE

Property Number: 31200020001

Status: Unutilized

Comment: 1200 sq. ft., 2-story wood, off-site use only

Unsuitable Properties

Building (by State)

California

Bldgs. 5157, 5158

Construction Battalion Center

Port Hueneme Co: Ventura CA 93043-4301

Landholding Agency: Navy

Property Number: 77200020045

Status: Unutilized

Reason: Secured Area

Facility 13181

Camp Pendleton

Camp Pendleton Co: CA 92055-

Landholding Agency: Navy

Property Number: 77200020046

Status: Unutilized

Reasons: Secured Area, Extensive deterioration

Facility 14220

Camp Pendleton

Camp Pendleton Co: CA 92055-

Landholding Agency: Navy

Property Number: 77200020047

Status: Unutilized

Reasons: Secured Area, Extensive deterioration

Facility 24151

Camp Pendleton

Camp Pendleton Co: CA 92055-

Landholding Agency: Navy

Property Number: 77200020048

Status: Unutilized

Comment: Secured Area, Extensive deterioration

Florida

Bldg. 7H

Naval Air Station

Jacksonville Co: FL 32212-

Landholding Agency: Navy

Property Number: 77200020064

Status: Unutilized

Comment: Secured Area, Extensive deterioration

Bldg. 7J

Naval Air Station

Jacksonville Co: FL 32212-

Landholding Agency: Navy

Property Number: 77200020065

Status: Unutilized

Comment: Secured Area, Extensive deterioration

Bldg. 7K

Naval Air Station

Jacksonville Co: FL 32212-

Landholding Agency: Navy

Property Number: 77200020066

Status: Unutilized

Comment: Secured Area, Extensive deterioration

Bldg. 106

Naval Air Station

Jacksonville Co: FL 32212-

Landholding Agency: Navy

Property Number: 77200020067

Status: Unutilized

Comment: Secured Area, Extensive deterioration

Bldg. 135

Naval Air Station

Jacksonville Co: FL 32212-

Landholding Agency: Navy

Property Number: 77200020068

Status: Unutilized

Comment: Secured Area, Extensive deterioration

Bldg. 142

Naval Air Station

Jacksonville Co: FL 32212-

Landholding Agency: Navy

Property Number: 77200020069

Status: Unutilized

Comment: Secured Area, Extensive deterioration

Bldg. 584

Naval Air Station

Jacksonville Co: FL 32212-

Landholding Agency: Navy

Property Number: 77200020070

Status: Unutilized

Comment: Secured Area, Extensive deterioration

Bldg. 610

Naval Air Station

Jacksonville Co: FL 32212-

Landholding Agency: Navy

Property Number: 77200020071

Status: Unutilized

Comment: Secured Area, Extensive deterioration

Bldg. 702

Naval Air Station

Jacksonville Co: Duval FL 32212-

Landholding Agency: Navy

Property Number: 77200020072

Status: Unutilized

Reasons: Secured Area, Extensive deterioration

Bldg. 703

Naval Air Station

Jacksonville Co: Duval FL 32212-

Landholding Agency: Navy

Property Number: 77200020073

Status: Unutilized

Reasons: Secured Area, Extensive deterioration

Bldg. 725

Naval Air Station

Jacksonville, Co: Duval FL 32212-

Landholding Agency: Navy

Property Number: 77200020074

Status: Unutilized

Reasons: Secured Area, Extensive deterioration

Bldg. 740A

Naval Air Station

Jacksonville Co: Duval FL 32212-

Landholding Agency: Navy

Property Number: 77200020075

Status: Unutilized

Reasons: Secured Area, Extensive deterioration

Bldg. 54

Naval Station

Mayport Co: Duval FL 32228-

Landholding Agency: Navy

Property Number: 77200020076

Status: Unutilized

Reasons: Secured Area, Extensive deterioration

Bldg. 211

Naval Station

Mayport Co: Duval FL 32228-

Landholding Agency: Navy

Property Number: 77200020077

Status: Unutilized

Reasons: Secured Area, Extensive deterioration

Guam

Bldg. 26

U.S. Naval Forces, Marianas

Waterfront Annex Co: GU 96540-0051

Landholding Agency: Navy

Property Number: 77200020049

Status: Unutilized

Reason: Secured Area

Bldg. 264

U.S. Naval Forces, Marianas

Waterfront Annex Co: GU 96540-0051

Landholding Agency: Navy

Property Number: 77200020050

Status: Unutilized

Reasons: Within 2000 ft. of flammable or explosive material, Secured Area, Extensive deterioration

Bldg. 3112

U.S. Naval Forces, Marianas

Waterfront Annex Co: GU 96540-0051

Landholding Agency: Navy

Property Number: 77200020051

Status: Unutilized

Reason: Secured Area

Bldg. 3116

U.S. Naval Forces, Marianas

Waterfront Annex Co: GU 96540-0051

Landholding Agency: Navy

Property Number: 77200020052

Status: Unutilized

Reason: Secured Area

Bldg. 3117

U.S. Naval Forces, Marianas

Waterfront Annex Co: GU 96540-0051

Landholding Agency: Navy

Property Number: 77200020053

Status: Unutilized

Reason: Secured Area

Bldg. 3118

U.S. Naval Forces, Marianas

Waterfront Annex Co: GU 96540-0051

Landholding Agency: Navy

Property Number: 77200020054

Status: Unutilized

Reason: Secured Area

Bldg. 3120

U.S. Naval Forces, Marianas

Waterfront Annex Co: GU 96540-0051

Landholding Agency: Navy

Property Number: 77200020055

Status: Unutilized

Reason: Secured Area

Bldg. 3121

U.S. Naval Forces, Marianas

Waterfront Annex Co: GU 96540-0051

Landholding Agency: Navy

Property Number: 77200020056

Status: Unutilized

Reason: Secured Area

Bldg. 4400

U.S. Naval Forces, Marianas

Waterfront Annex Co: GU 96540-0051

Landholding Agency: Navy

Property Number: 77200020057

Status: Unutilized

Reason: Secured Area, Extensive deterioration

Bldg. 4402

U.S. Naval Forces, Marianas

Waterfront Annex Co: GU 96540-0051

Landholding Agency: Navy

Property Number: 77200020058

Status: Unutilized

Reason: Secured Area

Bldg. 4414

U.S. Naval Forces, Marianas

Waterfront Annex Co: GU 96540-0051

Landholding Agency: Navy

Property Number: 77200020059

Status: Unutilized

Reason: Secured Area

Bldg. 4425

U.S. Naval Forces, Marianas

Waterfront Annex Co: GU 96540-0051

Landholding Agency: Navy

Property Number: 77200020060

Status: Unutilized

Reason: Secured Area

Bldgs. 4426, 4427, 4428

U.S. Naval Forces, Marianas

Waterfront Annex Co: GU 96540-0051

Landholding Agency: Navy

Property Number: 77200020061

Status: Unutilized

Reason: Secured Area

Illinois

Bldg. 381

Argonne National Lab

Argonne Co: DuPage IL 60439-

Landholding Agency: Energy

Property Number: 41200020005

Status: Unutilized

Reason: Extensive deterioration

Bldg. 384

Argonne National Lab

Argonne Co: DuPage IL 60439-

Landholding Agency: Energy

Property Number: 41200020006

Status: Unutilized

Reason: Extensive deterioration

Bldg. 480

Argonne National Lab

Argonne Co: DuPage IL 60439-

Landholding Agency: Energy

Property Number: 41200020007

Status: Unutilized

Reason: Extensive deterioration

Bldg. 486

Argonne National Lab

Argonne Co: DuPage IL 60439-

Landholding Agency: Energy

Property Number: 41200020008

Status: Unutilized

Reason: Extensive deterioration

Minnesota

Dwelling

Mississippi Hdqts Leech Lake

Proj.

Federal Dam Co: Cass MN 56641-

Landholding Agency: COE

Property Number: 31200020002

Status: Unutilized

Reason: Extensive deterioration

Garage 1

Mississippi Hdqts Leech Lake

Proj.

Federal Dam Co: Cass MN 56641-

Landholding Agency: COE

Property Number: 31200020003

Status: Unutilized

Reason: Extensive deterioration

Garage 2

Mississippi Hdqts Leech Lake

Proj.

Federal Dam Co: Cass MN 56641-

Landholding Agency: COE

Property Number: 31200020004

Reason: Extensive deterioration

Nevada

6 Bldgs.

Dale Street Complex

300, 400, 500, 600, Block

Bldg, Valve House

Boulder City Co: NV 89005-

Landholding Agency: GSA

Property Number: 54200020017

Status: Excess

Reason: Extensive deterioration

GSA Number: LC-00-01-RP

New Mexico

Bldg. 16, TA-3

Los Alamos National Lab

Los Alamos Co: NM 87545-

Landholding Agency: Energy

Property Number: 41200020009

Status: Unutilized

Reason: Secured Area

Bldg. 339, TA-16

Los Alamos National Lab

Los Alamos Co: NM 87545-

Landholding Agency: Energy

Property Number: 41200020010

Status: Unutilized

Reason: Secured Area

Bldg. 340, TA-16

Los Alamos National Lab

Los Alamos Co: NM 87545-

Landholding Agency: Energy

Property Number: 41200020011

Status: Unutilized

Reason: Secured Area

Bldg. 341, TA-16

Los Alamos National Lab

Los Alamos Co: NM 87545-

Landholding Agency: Energy

Property Number: 41200020012

Status: Unutilized

Reason: Secured Area

Bldg. 342, TA-16

Los Alamos National Lab

Los Alamos Co: NM 87545-

Landholding Agency: Energy

Property Number: 41200020013

Status: Unutilized

Reason: Secured Area

Bldg. 343, TA-16

Los Alamos National Lab

Los Alamos Co: NM 87545-

Landholding Agency: Energy

Property Number: 41200020014

Status: Unutilized

Reason: Secured Area

Bldg. 345, TA-16

Los Alamos National Lab

Los Alamos Co: NM 87545-

Landholding Agency: Energy

Property Number: 41200020015

Status: Unutilized

Reason: Secured Area

Bldg. 16, TA-21

Los Alamos National Lab

Los Alamos Co: NM 87545-

Landholding Agency: Energy

Property Number: 41200020016

Status: Unutilized

Reason: Secured Area

Bldg. 48, TA-55

Los Alamos National Lab

Los Alamos Co: NM 87545-

Landholding Agency: Energy

Property Number: 41200020017

Status: Unutilized

Reason: Secured Area

Bldg. 125, TA-55

Los Alamos National Lab

Los Alamos Co: NM 87545-

Landholding Agency: Energy

Property Number: 41200020018

Status: Unutilized

Reason: Secured Area

Bldg. 162, TA-55

Los Alamos National Lab

Los Alamos Co: NM 87545-

Landholding Agency: Energy

Property Number: 41200020019

Status: Unutilized

Reason: Secured Area

New York

Bldg. AT-1

Knolls Atomic Power Lab

Niskayuna Co: Schenectady NY 12301-

Landholding Agency: Energy

Property Number: 41200020020

Status: Unutilized

Reason: Secured Area

South Carolina

Bldg. 49

Naval Public Works Center

Goose Creek Co: Berkeley SC 29445-

Landholding Agency: Navy

Property Number: 77200020062

Status: Unutilized

Reasons: Secured Area, Extensive deterioration

Virginia

Bldg. 145

Norfolk Naval Shipyard

Portsmouth Co: VA 23709-5000

Landholding Agency: Navy

Property Number: 77200020063

Status: Unutilized

Reasons: Secured Area, Extensive deterioration

Bldg. SP-76

Naval Station

Norfolk Co: VA 23511-

Landholding Agency: Navy

Property Number: 77200020078

Status: Unutilized

Reasons: Extensive deterioration

Pennsylvania

Tract No. B-212C

Upstream from Gen. Jadwin

Dam & Reservoir

Honesdale Co: Wayne PA 18431-

Landholding Agency: COE

Property Number: 31200020005

Status: Unutilized

Reason: Floodway

Tennessee

Tract D, 7 acres

Cheatham Lock & Dam

Nashville Co: Davidson TN 37207-

Landholding Agency: COE

Property Number: 31200020006

Status: Unutilized

Reason: Floodway

Virginia

0.4 acres

Naval Amphibious Base

Norfolk Co: VA 23521-3229

Landholding Agency: Navy

Property Number: 77200020079

Status: Unutilized

Comment: Secured Area

[FR Doc. 00-13041 Filed 5-25-00; 8:45 am]

BILLING CODE 4210-29-M